DEPARTMENT OF TRANSPORTATION

Federal Aviation Administration

Meeting; RTCA Program Management Committee

AGENCY: Federal Aviation Administration (FAA), U.S. Department of Transportation (DOT).

ACTION: Notice of RTCA Program Management Committee meeting.

SUMMARY: The FAA is issuing this notice to advise the public of a meeting of RTCA Program Management Committee.

DATES: The meeting will be held March 24th 2015 from 8:30 a.m.-3:30 p.m.

ADDRESSES: The meeting will be held at RTCA, Inc., 1150 18th Street, NW., Suite 910, Washington, DC, 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Program Management Committee meeting. The agenda will include the following:

March 24th

• WELCOME AND INTRODUCTIONS

• REVIEW/APPROVE Meeting Summary

○ December 16, 2014, RTCA Paper No. 030-14/PMC-1296

• PUBLICATION CONSIDERATION/APPROVAL

○ Final Draft, New Document, Minimum Operational Performance Standards for Flight Information Services—Broadcast (FIS-B) with the Universal Access Transceiver (UAT), prepared by SC-206

○ Final Draft, Supplement to New Document, Minimum Operational Performance Standards for Flight Information Services—Broadcast (FIS-B) with the Universal Access Transceiver (UAT), Test Procedures/Electronic File only, prepared by SC-206

○ Final Draft, New Document, Enhanced Flight Vision Systems and Synthetic Vision Systems, prepared by SC-213

○ Final Draft, Change 4 to DO-210D, Minimum Operational Performance Standards for Geosynchronous Orbit Aeronautical Mobile Satellite Services (AMSS) Avionics, prepared by SC-222

• INTEGRATION and COORDINATION COMMITTEE (ICC)

• ACTION ITEM REVIEW

○ PMC Ad Hoc—Standards Overlap and Alignment—Discussion—Workshop Status.

○ RTCA Policy on Propriety Information—Discussion—Update

• DISCUSSION

○ SC-147—Traffic Alert and Collision Avoidance System—Co-Chair Nomination—Review/Approve

○ SC-214—Standards for Air Traffic Data ommunication Services—Discussion—Revised Terms of Reference (TOR)

○ SC-216—Aeronautical Systems Security—Discussion—Revised TOR

○ SC-224—Airport Security Access Control Systems—Discussion—Revised TOR—Development of Operational Guidelines

○ SC-225—Rechargeable Lithium Batteries and Battery Systems—Status—Revised TOR—Discussion

○ SC-227—Standards of Navigation Performance—Discussion—Revised TOR

○ SC-229—406 MHz Emergency Locator Transmitters (ELTs)—In Reference To TOR Discussion—Aircraft Tracking and In-Flight Triggering

○ SC-230—Airborne Weather Detection—Discussion—Revised TOR

○ SC-234—Portable Electronic Devices—Discussion—Status Update

○ Wake Vortex Tiger Team—Discussion—White Paper—Progress Status

○ Design Assurance Guidance for Airborne Electronic Hardware—Status—Possible New Special Committee to Update RTCA DO-254

○ NAC—Status Update

○ FAA Actions Taken on Previously Published Documents—Report

○ Special Committees—Chairmen's Reports and Active Inter-Special Committee Requirements Agreements (ISRA)—Review

○ European/EUROCAE Coordination—Status Update

○ RTCA Award Nominations—Consideration/Approval of Nominations

• OTHER BUSINESS

• SCHEDULE for COMMITTEE DELIVERABLES and NEXT MEETING DATE

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 25, 2015.
Mohannad Dawoud,
Management Analyst, NextGen, Program Oversight and Administration, Federal Aviation Administration.

[FR Doc. 2015-05108 Filed 3-4-15; 8:45 am]

BILLING CODE 4910-13-P